DEPARTMENT OF THE INTERIOR

National Park Service

Jimmy Carter National Historical Site Commission Meeting

AGENCY: National Park Service, Jimmy Carter National Historic Site, Interior.

ACTION: Notice of Advisory Commission Meeting.

SUMMARY: Notice is hereby given in accordance with the Federal Advisory Committee Act, 5 U.S.C. App. 1, Section 10(a)(2), that a meeting of the Jimmy Carter National Historic Site Advisory Commission will be held at 8:30 a.m. to 2 p.m. at the following location and date.

DATES: October 11, 2002.

ADDRESSES: The Plains High School, Jimmy Carter National Historic Site, 300 North Bond Street, Plains, Georgia 31780.

FOR FURTHER INFORMATION CONTACT: Mr. Fred Boyles, Superintendent, Jimmy Carter National Historic Site, 496 Cemetery Road, Andersonville, Georgia 31711, (229) 924-0343 Extension 105.

SUPPLEMENTARY INFORMATION: The purpose of the Jimmy Carter National Historic Site Advisory Commission is to advise the Secretary of the Interior or her designee on achieving balanced and accurate interpretation of the Jimmy Carter National Historic Site. The members of the Advisory Commission are as follows: Dr. James Sterling Young, Dr. Barbara J. Fields, Dr. Donald B. Schewe, Dr. Steven H. Hochman, Dr. Jay Hakes, and Director, National Park Service, Ex-Officio member.

The matters to be discussed at this meeting include the status of park development and planning activities. This meeting will be open to the public. However, facilities and space for accommodating members of the public are limited. Any member of the public may file with the commission a written statement concerning the matters to be discussed. Written statements may also be submitted to the Superintendent at the address above. Minutes of the meeting will be available at Park Headquarters for public inspection approximately 4 weeks after the meeting.

Dated: September 24, 2002.
Charlie Powell,
Acting Regional Director, Southeast Region.

[FR Doc. 02-24762 Filed 9-27-02; 8:45 am]

BILLING CODE 4310-70-P